DEPARTMENT OF JUSTICE

[AAG/A Order No. 293-2002]

Privacy Act of 1974; System of Records

Pursuant to the Privacy Act of 1974 (5 U.S.C. 552a), notice is given that the Department of Justice proposes to make a minor change in its system of records entitled “Correspondence Management Systems (CMS) for the Department of Justice (DOJ),” DOJ-003. This system was originally published on June 4, 2001 (66 FR 29992); the correction notice was published on June 29, 2001 (66 FR 34743). The final rule for DOJ-003 was published August 8, 2001 (66 FR 41445); the correction notice was published on August 17, 2001 (66 FR 43308). This system is now being modified as follows and will be effective October 25, 2002.

The Department is retaining the entirety of the previously published notice and rule. There is only one addition to the notice. In the preamble to DOJ-003, the Department lists the notices previously published by individual Department of Justice components that are now covered by DOJ-003. This modification adds to that list the following notice of system of records: Office of the Pardon Attorney, “Miscellaneous Correspondence File,” JUSTICE/OPA-002 (58 FR 6981, February 3, 1993).

A notice to remove OPA-002 from the Department's compilation of Privacy Act systems of records is published in today's Federal Register.

Therefore, the Privacy Act notice for the Office of the Pardon Attorney (OPA), “Miscellaneous Correspondence File, OPA-002”, is added to the notice of the DOJ's Correspondence Management File, DOJ-003.”

Dated: October 15, 2002.
Robert F. Diegelman,
Acting Assistant Attorney General for Administration.

[FR Doc. 02-27218 Filed 10-24-02; 8:45 am]

BILLING CODE 4410-29-P